INTERNATIONAL TRADE COMMISSION

[Investigation No. 731-TA-1013 (Final)]

Saccharin From China

Determination

On the basis of the record ¹ developed in the subject investigation, the United States International Trade Commission (Commission) determines, pursuant to section 735(b) of the Tariff Act of 1930 (19 U.S.C. 1673d(b)) (the Act), that an industry in the United States is materially injured by reason of imports from China of saccharin, provided for in subheading 2925.11.00 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted this investigation effective July 11, 2002, following receipt of a petition filed with the Commission and Commerce by PMC Specialties Group, Inc., Cincinnati, OH. The final phase of the investigation was scheduled by the Commission following notification of a preliminary determination by Commerce that imports of saccharin from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of January 14, 2003 (68 FR 1860).² The hearing was held in Washington, DC, on May 15, 2003, and all persons who requested the opportunity were permitted to appear in person or by counsel.

² On February 11, 2003, Commerce published notice of postponement of its final determination (68 FR 6885) and extended the due date to May 12, 2003. Subsequently, the Commission published notice of a revised schedule for the final phase of its investigation (68 FR 8783, February 25, 2003).

The Commission transmitted its determination in this investigation to the Secretary of Commerce on June 25, 2003. The views of the Commission are contained in USITC Publication 3606 (June 2003), entitled Saccharin From China: Investigation No. 731-TA-1013 (Final).

By order of the Commission.
Issued: June 20, 2003.
Marilyn R. Abbott,
Secretary.

[FR Doc. 03-16023 Filed 6-24-03; 8:45 am]

BILLING CODE 7020-02-P